DEPARTMENT OF DEFENSE

Office of the Secretary

Change of Location of Meetings of the Defense Base Closure and Realignment Commission (BRAC)

AGENCY: Defense Base Closure and Realignment Commission (BRAC).

ACTION: Notice; Correction—Location Change for Meetings of the Defense Base Closure and Realignment Commission (BRAC).

SUMMARY: The Department of Defense published a document in the Federal Register of May 4, 2005, concerning a meeting of the BRAC. The purpose of these meetings is to receive testimony from the Secretary of Defense, the Chairman of the Joint Chiefs of Staff (JCS), or their representatives; the Department of the Air Force; the Department of the Navy; the Department of the Army; and the Department of Defense's Joint Cross Service Groups on the recommendations and methodology regarding the closure and realignment of military installations, are unchanged. The location for these meetings have been changed.

FOR FURTHER INFORMATION CONTACT: Contact Mr. Dan Cowhig, Deputy General Counsel and Designated Federal Officer, 2005 Defense Base Closure and Realignment Commission, 2521 South Clark St., Suite 600, Arlington, VA 22202, telephone (703) 699-2974.

Correction

In the Federal Register of May 4, 2005, in the FR Doc. 05-8850, on page 23142, in the second column, correct the “Dates, Times, and Addresses” captions to read:

Dates, Times, and Addresses:

Monday, May 16, 2005, 1:30 p.m.-4:30 p.m., Secretary of Defense, Chairman, JCS Senate Hart Building, Room 216, U.S. Senate, Washington, DC.

Tuesday, May 17, 2005, 9:30 a.m.-12:30 p.m., Department of the Air Force Senate Dirksen Building, Room G50, U.S. Senate, Washington, DC.

Tuesday, May 17, 2005, 1:30 p.m.-4:30 p.m., Department of the Navy Senate Hart Building, Room 216, U.S. Senate, Washington, DC.

Wednesday, May 18, 2005, 9:30 a.m.-12:30 p.m., Department of the Army Senate Dirksen Building, Room 106, U.S. Senate, Washington, DC.

Wednesday, May 18, 2005, 1:30 p.m.-4:30 p.m., Defense Joint Cross Service Groups Senate Dirksen Building, Room 106, U.S. Senate, Washington, DC.

Thursday, May 19, 2005, 9:30 a.m.-12:30 p.m., Defense Joint Cross Service Groups Senate Hart Building, Room 216, U.S. Senate, Washington, DC.

Dated: May 17, 2005.
Jeannette Owings-Ballard,
OSD Federal Register Liaison Officer, Department of Defense.

[FR Doc. 05-9613 Filed 5-12-05; 8:45 am]

BILLING CODE 5001-06-M